DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: 9 a.m. to 5 p.m., January 27th, 2004; 8:30 a.m. to 5 p.m., January 28th, 2004.

Place: Hubert H. Humphrey Building, 200 Independence Avenue SW., Room 705A, Washington, DC 20201.

Status: Open.

Purpose: The agenda for Tuesday, January 27th, will be devoted to final reports on standards for five domains that were prepared as part of the Consolidated Health Informatics Initiative (CHI) and a related letter on CHI recommendations to the Secretary will be finalized. The afternoon will focus on issues related to the implementation of the HIPAA Security Rule.

The morning of the second day will include an update on implementation of HIPAA transactions and code sets provisions; the development of a draft letter to the Secretary concerning the Claims Attachment Standard; and a session on dental data standards issues. The afternoon will be devoted to Subcommittee planning of future activities around E-prescriptions.

FOR FURTHER INFORMATION CONTACT: Substantive program information as well as summaries of meetings and a roster of Committee members may be obtained from Maria Friedman, Health Insurance Specialist, Security and Standards Group, Centers for Medical and Medicaid Services, MS: C5-24-04, 7500 Security Boulevard, Baltimore, MD 21244-1850, telephone: (410) 786-6333 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available. Should you require reasonable accommodation, please contact the CDC Office of Equal Employment Opportunity on (301) 458-4EEO (4336) as soon as possible.

Dated: December 24, 2003.
James Scanlon,
Acting Deputy Assistant Secretary for Science and Data Policy, Office of the Assistant Secretary for Planning and Evaluation.

[FR Doc. 04-396 Filed 1-8-04; 8:45 am]

BILLING CODE 4151-05-M